DEPARTMENT OF DEFENSE

Department of the Navy

Notice of Intent To Grant Exclusive Patent License; Sensera, Inc.

AGENCY: Department of the Navy, DoD.

ACTION: Notice.

SUMMARY: The Department of the Navy hereby gives notice of its intent to grant to Sensera, Inc., a revocable, nonassignable, exclusive license to practice in the United States and certain foreign countries, the Government-Owned inventions described in U.S. Patent No. 5,372,930 issued December 13, 1994, entitled “Sensor for Ultra-Low Concentration Molecular Recognition”, Navy Case No. 73,568; U.S. Patent No. 5,807,758 issued September 15, 1998, entitled “Chemical and Biological Sensor Using an Ultra-Sensitive Force Transducer”, Navy Case No. 76,628; U.S. Patent No. 6,180,418 issued January 30, 2001, entitled “Force Discrimination Assay”, Navy Case No. 78,183; and U.S. Patent Application Serial No. 09/614,727 filed July 12, 2000, entitled “Nanoporous Membrane Immunosensor”, Navy Case No. 80,068.

DATES: Anyone wishing to object to the granting of this license must file written objections along with supporting evidence, if any, not later than July 30, 2003.

ADDRESSES: Written objections are to be filed with the Naval Research Laboratory, Code 1004, 4555 Overlook Avenue, SW., Washington, DC 20375-5320.

FOR FURTHER INFORMATION CONTACT: Catherine M. Cotell, Ph.D., Head, Technology Transfer Office, NRL Code 1004, 4555 Overlook Avenue, SW., Washington, DC 20375-5320, telephone (202) 767-7230.

Due to U.S. Postal delays, please fax (202) 404-7920, E-Mail: cotell@nrl.navy.mil or use courier delivery to expedite response.

(Authority: 35 U.S.C. 207, 37 CFR part 404.)

Dated: July 9, 2003.
E.F. McDonnell,
Major, U.S. Marine Corps, Federal Register Liaison Officer.

[FR Doc. 03-17809 Filed 7-14-03; 8:45 am]

BILLING CODE 3810-FF-P